DEPARTMENT OF ENERGY

Federal Energy Regulatory Commission

[Docket No. CP19-471-000]

Bluewater Gas Storage, LLC; Notice of Schedule for Environmental Review of the Bluewater Compression Project

On May 23, 2019, Bluewater Gas Storage, LLC filed an application in Docket No. CP19-471-000 requesting a Certificate of Public Convenience and Necessity pursuant to Section 7(c) of the Natural Gas Act to construct and operate certain natural gas pipeline facilities. The proposed project is known as the Bluewater Compression Project (Project), and would restore the original design capacity of 500,000 million standard cubic feet of firm deliverability to Vector Pipeline L.P.

On June 7, 2019, the Federal Energy Regulatory Commission (Commission or FERC) issued its Notice of Application for the Project. Among other things, that notice alerted agencies issuing federal authorizations of the requirement to complete all necessary reviews and to reach a final decision on a request for a federal authorization within 90 days of the date of issuance of the Commission staff's Environmental Assessment (EA) for the Project. This instant notice identifies the FERC staff's planned schedule for the completion of the EA for the Project.

Schedule for Environmental Review

Issuance of EA—December 2, 2019

90-day Federal Authorization Decision Deadline—March 1, 2020

If a schedule change becomes necessary, additional notice will be provided so that the relevant agencies are kept informed of the Project's progress.

Project Description

The Project would involve construction and operation of a new compressor station in Ray Township, Macomb County, Michigan. Bluewater would also construct two 105-foot-long sections of new 20-inch-diameter pipeline to connect the proposed compressor station to the existing pipeline. One temporary access road would be utilized from 32 Mile Road to the proposed site, and one permanent access road would be constructed from Omo Road to the proposed site.

Background

On July 5, 2019, the Commission issued a Notice of Intent to Prepare an Environmental Assessment for the Proposed Bluewater Compression Project and Request for Comments on Environmental Issues (NOI). The NOI was sent to affected landowners; federal, state, and local government agencies; elected officials; Native American tribes; other interested parties; and local libraries and newspapers. In response to the NOI, the Commission has received comments from the Township of Ray and one landowner. Before the NOI was issued, we received comments from a United States Senator, a Michigan senator, the Township of Lenox, and 18 members of the public. The primary issues raised by the commentors were the purpose and need of the Project, property values, air, noise, and safety. All substantive comments will be addressed in the EA.

Additional Information

In order to receive notification of the issuance of the EA and to keep track of all formal issuances and submittals in specific dockets, the Commission offers a free service called eSubscription. This can reduce the amount of time you spend researching proceedings by automatically providing you with notification of these filings, document summaries, and direct links to the documents. Go to www.ferc.gov/docs-filing/esubscription.asp.

Additional information about the Project is available from the Commission's Office of External Affairs at (866) 208-FERC or on the FERC website (www.ferc.gov). Using the eLibrary link, select General Search from the eLibrary menu, enter the selected date range and Docket Number excluding the last three digits (i.e., CP19-471), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: July 19, 2019.
Nathaniel J. Davis, Sr.,
Deputy Secretary.

[FR Doc. 2019-15864 Filed 7-25-19; 8:45 am]

BILLING CODE 6717-01-P